DEPARTMENT OF TRANSPORTATION

Federal Aviation Administration

14 CFR Part 39

[Docket No. 2003-NM-105-AD]

RIN 2120-AA64

Airworthiness Directives; Empresa Brasileira de Aeronautica S.A. (EMBRAER) Model EMB-120 Series Airplanes

AGENCY: Federal Aviation Administration, DOT.

ACTION: Notice of proposed rulemaking (NPRM).

SUMMARY: This document proposes the adoption of a new airworthiness directive (AD) that is applicable to all EMBRAER Model EMB-120 series airplanes. This proposal would require revising the Airplane Flight Manual to ensure that the propeller synchronizer switch is “OFF” after engine start and before takeoff and landing. This action is necessary to prevent a possible loss of airplane control and subsequent injury to the flight crew and passengers. This action is intended to address the identified unsafe condition.

DATES: Comments must be received by May 3, 2004.

ADDRESSES: Submit comments in triplicate to the Federal Aviation Administration (FAA), Transport Airplane Directorate, ANM-114, Attention: Rules Docket No. 2003-NM-105-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-105-AD” in the subject line and need not be submitted in triplicate. Comments sent via the Internet as attached electronic files must be formatted in Microsoft Word 97 or 2000 or ASCII text.

This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-105-AD.” The postcard will be date stamped and returned to the commenter.

Availability of NPRMs

Any person may obtain a copy of this NPRM by submitting a request to the FAA, Transport Airplane Directorate, ANM-114, Attention: Rules Docket No. 2003-NM-105-AD, 1601 Lind Avenue, SW., Renton, Washington 98055-4056.

Discussion

The Departmento de Aviacao Civil (DAC), which is the airworthiness authority for Brazil, notified the FAA that an unsafe condition may exist on all EMBRAER Model EMB-120 series airplanes. The DAC advises that the airplane flight manual (AFM) allows takeoff and landings with the propeller synchronizer “ON,” which is not an approved configuration. If the propeller synchronizer is either left in the “ON” position or switched to the “ON” position during takeoffs and landings, the pilot's control of engine power during critical phases of the flight could be impeded. Such an impediment could result in loss of control of the airplane and subsequent injury to the flight crew and passengers.

Explanation of Relevant Service Information

EMBRAER has issued EMB-120 Airplane Flight Manual, 120/794, Revision 64, dated March 12, 2003. Pages 4-17, 4-23, and 4-27 of this revision have been revised to ensure that the propeller synchronizer switch is “OFF” after engine start and before takeoff and landing. Accomplishment of the actions specified in the AFM revision is intended to adequately address, in part, the identified unsafe condition. The DAC has issued Brazilian airworthiness directive 2003-02-01, dated March 3, 2003, in order to assure the continued airworthiness of these airplanes in Brazil.

FAA's Conclusions

This airplane model is manufactured in Brazil and is type certificated for operation in the United States under the provisions of section 21.29 of the Federal Aviation Regulations (14 CFR 21.29) and the applicable bilateral airworthiness agreement. Pursuant to this bilateral airworthiness agreement, the DAC has kept the FAA informed of the situation described above. The FAA has examined the findings of the DAC, reviewed all available information, and determined that AD action is necessary for products of this type design that are certificated for operation in the United States.

Explanation of Requirements of Proposed Rule

Since an unsafe condition has been identified that is likely to exist or develop on other airplanes of the same type design registered in the United States, the proposed AD would require revising the Limitations and Normal Procedures Sections of the AFM to ensure that the propeller synchronizer switch is “OFF” after engine start and before takeoff and landing. The revision to the Normal Procedures Section of the AFM would be required to be accomplished in accordance with the pages of the AFM described previously.

Clarification Between Brazilian Airworthiness Directive and This Proposed Rule

The Brazilian airworthiness directive requires revising the Normal Procedures Section of the AFM by specifying which phrases to remove and add. Because AFM 120/794, Revision 64, dated March 12, 2003 (described above), includes the revisions to the Normal Procedures Section of the AFM specified in the Brazilian airworthiness directive, this proposed AD would require inserting those pages into the AFM. It is our intention to provide an exact representation of the desired end result in the AFM to make the revision process easier/less complex and to ensure that all steps related to the propeller synchronizer are corrected.

Cost Impact

The FAA estimates that 217 airplanes of U.S. registry would be affected by this proposed AD, that it would take approximately 1 work hour per airplane to accomplish the proposed actions, and that the average labor rate is $65 per work hour. Based on these figures, the cost impact of the proposed AD on U.S. operators is estimated to be $14,105, or $65 per airplane.

The cost impact figure discussed above is based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Empresa Brasileira de Aeronautica S.A. (EMBRAER): Docket 2003-NM-105-AD.

Applicability: All Model EMB-120 series airplanes, certificated in any category.

Compliance: Required as indicated, unless accomplished previously.

To prevent a possible loss of airplane control and subsequent injury to the flight crew and passengers, accomplish the following:

Revision of the Airplane Flight Manual (AFM)

(a) Within 30 days from the effective date of this AD, do the actions specified in paragraphs (a)(1) and (a)(2) of this AD.

(1) Revise the Limitations Section of the AFM to include the following text in “Section II—Limitations” under title “Powerplant,” subtitle “Propeller” (this may be accomplished by inserting a copy of this AD into the AFM): “For takeoff and landing PROP SYNC must be OFF”

Note 1: When a statement identical to that in paragraph (a)(1) of this AD has been included in the general revisions of the AFM, the general revisions may be inserted into the AFM, and the copy of this AD may be removed from the AFM.

(2) Revise the Normal Procedures section of the AFM by inserting pages 4-17, 4-23, and 4-27 of EMBRAER AFM 120/794, Revision 64, dated March 12, 2003, into the AFM.

Alternative Methods of Compliance

(b) In accordance with 14 CFR 39.19, the Manager, International Branch, ANM-116, FAA, is authorized to approve alternative methods of compliance (AMOCs) for this AD.

Note 2: The subject of this AD is addressed in Brazilian airworthiness directive 2003-02-01, dated March 3, 2003.

Issued in Renton, Washington, on March 19, 2004.
Kevin M. Mullin,
Acting Manager, Transport Airplane Directorate, Aircraft Certification Service.

[FR Doc. 04-7355 Filed 3-31-04; 8:45 am]

BILLING CODE 4910-13-U